DEPARTMENT OF COMMERCE

International Trade Administration

[C-570-978]

High Pressure Steel Cylinders From the People's Republic of China: Rescission of Countervailing Duty Administrative Review: 2015

AGENCY: Enforcement and Compliance, International Trade Administration, Department of Commerce.

SUMMARY: The Department of Commerce (the Department) is rescinding the administrative review of the countervailing duty order on high pressure steel cylinders from the People's Republic of China (PRC) for the period of review (POR) January 1, 2015, through December 31, 2015, based on the timely withdrawal of requests for review.

DATES: Effective October 12, 2016.

FOR FURTHER INFORMATION CONTACT: Sergio Balbontin at (202) 482-6478, AD/CVD Operations, Office I, Enforcement and Compliance, International Trade Administration, U.S. Department of Commerce, 1401 Constitution Avenue NW., Washington, DC 20230.

SUPPLEMENTARY INFORMATION:

Background

On June 2, 2016, the Department published a notice of opportunity to request an administrative review of the countervailing duty order on high pressure steel cylinders (steel cylinders) from the PRC for the period of POR of January 1, 2015, through December 31, 2015.¹ The Department received timely-filed requests for an administrative review of Beijing Tianhai Industry Co., Ltd. (BTIC) from Norris Cylinder Company (Norris) and BTIC, in accordance with section 751(a) of the Tariff Act of 1930, as amended (the Act), and 19 CFR 351.213(b).²

¹ See Antidumping or Countervailing Duty Order, Finding, or Suspended Investigation; Opportunity To Request Administrative Review, 81 FR 35301 (June 2, 2016).

² See letters from Norris, “High Pressure Steel Cylinders from the People's Republic of China Request for Administrative Review and Entry of Appearance,” dated June 15, 2015, and BTIC, “Request for the Fourth Administrative Review of the Countervailing Duty Order on High Pressure Steel Cylinders from the People's Republic of China, C-570-978 (POR: 01/01/15-12/31/15),” dated June 28, 2016.

On August 11, 2016, pursuant to these requests and in accordance with 19 CFR 351.221(c)(1)(i), the Department published a notice initiating an administrative review of the countervailing duty order on steel cylinders from the PRC with respect to BTIC.³ Subsequent to publication of the Initiation Notice, the Department requested from U.S. Customs and Border Protection (CBP) data for U.S. imports of subject merchandise during the POR, placed these data on the record, and solicited interested party comments.⁴ No comments were received from interested parties. On September 14, 2016, Norris and BTIC withdrew their requests for an administrative review.⁵

³ See Initiation of Antidumping and Countervailing Duty Administrative Reviews, 81 FR 53121 (August 11, 2016) (Initiation Notice).

⁴ See Memorandum to the File, “Countervailing Duty Administrative Review: High Pressure Steel Cylinders from the People's Republic of China: Release of U.S. Customs and Border Protection Data,” dated September 8, 2016.

⁵ See Letters from Norris, “Withdrawal of Request for an Administrative Review of the Countervailing Duty Order on High Pressure Steel Cylinders from the People's Republic of China,” and BTIC, “Withdrawal of Review Request in the Fourth Administrative Review of Countervailing Duty Order on High Pressure Steel Cylinders from the People's Republic of China,” dated September 14, 2016.

Rescission of Review

Pursuant to 19 CFR 351.213(d)(l), the Department will rescind an administrative review, in whole or in part, if the party, or parties, that requested a review withdraw the request/s within 90 days of the publication date of the notice of initiation of the requested review. As noted above, Norris and BTIC withdrew their requests for an administrative review within 90 days of the publication date of the notice of initiation. No other parties requested an administrative review. Therefore, in response to the timely withdrawal of requests for review, and in accordance with 19 CFR 351.213(d)(l), the Department is rescinding, in its entirety, the administrative review of the countervailing duty order on steel cylinders from the PRC for the POR January 1, 2015, through December 31, 2015.

Assessment

The Department will instruct CBP to assess CVDs on entries of steel cylinders from the PRC during the period January 1, 2015 through December 31, 2015, at rates equal to the cash deposit of estimated CVDs required at the time of entry, or withdrawal from warehouse, for consumption in accordance with 19 CFR 351.212(c)(l)(i). The Department intends to issue appropriate assessment instructions to CBP 15 days after the date of publication of this notice.

Notifications

This notice serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(l) and 777(i)(1) of the Tariff Act of 1930, as amended, and 19 CFR 351.213(d)(4).

Dated: October 5, 2016.
Christian Marsh,
Deputy Assistant Secretary for Antidumping and Countervailing Duty Operations.

[FR Doc. 2016-24652 Filed 10-11-16; 8:45 am]

BILLING CODE 3510-DS-P